INTERNATIONAL TRADE COMMISSION

[Investigation Nos. 332-350 and 332-351]

Monitoring of U.S. Imports of Tomatoes and Monitoring of U.S. Imports of Peppers

AGENCY: International Trade Commission.

ACTION: Publication of monitoring reports in 2003.

SUMMARY: The Commission hereby gives notice of its intention to publish the results of its monitoring of U.S. imports of tomatoes and U.S. imports of peppers, other than chili peppers, in November 2003.

For further information concerning the conduct of these investigations and rules of general application, consult the Commission's Rules of Practice and Procedure, part 201, subparts A through E (19 CFR part 201), and part 207, subparts A and B (19 CFR part 207).

EFFECTIVE DATE: July 21, 2003.

FOR FURTHER INFORMATION CONTACT: Timothy McCarty (202-205-3324, mccarty@usitc.gov) or Cathy Jabara (202-205-3309, jabara@usitc.gov), Agriculture and Forest Products Division, Office of Industries, U.S. International Trade Commission, 500 E Street, SW., Washington DC 20436, for general information, or William Gearhart (202-205-3091, wgearhart@usitc.gov), Office of the General Counsel, U.S. International Trade Commission, for information on legal aspects. Hearing-impaired persons can obtain information on this matter by contacting the Commission's TDD terminal on (202) 205-1810. General information concerning the Commission may also be obtained by accessing its Internet server (http://www.usitc.gov). The public record for these investigations may be viewed on the Commission's electronic docket (EDIS-ON LINE) at http://dockets.usitc.gov/eol/public.

SUPPLEMENTARY INFORMATION: Background.—Section 316 of the North American Free-Trade Agreement Implementation Act (NAFTA Implementation Act) (19 U.S.C. 3881), directs the Commission to monitor imports of fresh or chilled tomatoes (HTS heading 0702.00) and fresh or chilled peppers, other than chili peppers (HTS subheading 0709.60.00), until January 1, 2009. As a result of such monitoring, the domestic industry producing a like or directly competitive perishable agricultural product may request, in a global safeguard petition filed under section 202 of the Trade Act of 1974 or a bilateral safeguard petition filed under section 302 of the NAFTA Implementation Act, that provisional relief be provided pending completion of a full section 202 or 302 investigation. If provisional relief is requested, the Commission has 21 days in which to make its determination and to transmit any provisional relief recommendation to the President. In response to the monitoring directive, the Commission instituted investigation No. 332-350, Monitoring of U.S. Imports of Tomatoes (59 FR 1763) and investigation No. 332-351, Monitoring of U.S. Imports of Peppers (59 FR 1762).

Although section 316 of the NAFTA Implementation Act does not require that the Commission publish reports on the results of its monitoring activities, the initial notices of institution of these investigations indicated that the Commission planned to publish reports on the monitoring annually. Subsequently, the Commission has published statistical reports in those years in which it was not conducting an investigation under other statutory authority with respect to such products. The most recent monitoring reports were published in November 2001 for tomatoes and in November 2002 for peppers.

Written submissions.—The Commission does not plan to hold a public hearing in connection with preparation of the 2003 statistical reports. However, interested persons are invited to submit written statements concerning the matters to be addressed in the reports. Commercial or financial information which a submitter desires the Commission to treat as confidential must be provided on separate sheets of paper, each clearly marked “Confidential Business Information” at the top. All submissions requesting confidential treatment must conform with the requirements of § 201.6 of the Commission's rules of practice and procedure (19 CFR 201.6). All written submissions, except for confidential business information, will be made available in the Office of the Secretary of the Commission for inspection by interested persons. The Commission will not include any confidential business information in its monitoring report, but may include such information in a report to the President under section 202 or 302 if a request for such an investigation were received. To be assured of consideration by the Commission, written statements relating to the Commission's report should be submitted to the Commission in accordance with § 201.8 of the Commission's rules at the earliest practical date and should be received no later than the close of business on August 13, 2003. All submissions should be addressed to the Secretary, United States International Trade Commission, 500 E Street SW., Washington, DC 20436.

By order of the Commission.
Issued: July 22, 2003.
Marilyn R. Abbott,
Secretary to the Commission.

[FR Doc. 03-19126 Filed 7-25-03; 8:45 am]

BILLING CODE 7020-02-P